DEPARTMENT OF ENERGY

Federal Energy Regulatory Commission

Combined Notice of Filings #1

June 14, 2005.

Take notice that the Commission received the following electric rate filings:

Docket Numbers: ER02-237-005; ER02-2026-004; ER03-922-005.

Applicants: J. Aron & Company; Quachita Power, LLC; Southaven Power, LLC.

Description: J. Aron & Company, Quachita Power, LLC and Southaven Power, LLC submit a notice of non-material change in status, in compliance with the reporting requirements adopted by FERC in Order No. 652 and the conditions adopted in each of the indicated sellers' market-based rate tariffs.

Filed Date: 06/03/2005.

Accession Number: 20050614-0099.

Comment Date: 5 p.m. Eastern Time on Friday, June 24, 2005.

Docket Numbers: ER03-198-004.

Applicants: Pacific Gas & Electric Company.

Description: Pacific Gas & Electric Company submits notification of change in status due to its recent execution of a power purchase contract with an affiliated counterparty.

Filed Date: 06/02/2005.

Accession Number: 20050603-0100.

Comment Date: 5 p.m. Eastern Time on Thursday, June 23, 2005.

Docket Numbers: ER05-1079-000.

Applicants: Forest Investment Group, LLC.

Description: Forest Investment Group, LLC submits petition for acceptance of Initial Rate Schedule, Waivers and Blanket Authority under ER05-1079.

Filed Date: 06/06/2005.

Accession Number: 20050608-0427.

Comment Date: 5 p.m. Eastern Time on Monday, June 27, 2005.

Docket Numbers: ER05-1084-000.

Applicants: Midwest Independent Transmission System Operator, Inc.

Description: Midwest Independent Transmission System Operator, Inc. submits an Interconnection and Operating Agreement with South Ridge Wind Interconnect, LLC and Northern States Power Company dba Xcel Energy under ER05-1084.

Filed Date: 06/07/2005.

Accession Number: 20050609-0102.

Comment Date: 5 p.m. Eastern Time on Tuesday, June 28, 2005.

Docket Numbers: ER05-1085-000.

Applicants: Midwest Independent Transmission System Operator, Inc.

Description: Midwest Independent Transmission System Operator, Inc. submits proposed revisions to Attachment AA (Compensation and Cost Recover for Action during Emergency Condition) and Attachment BB (Compensation for Rescheduling Generator Outages) of the Midwest ISO Open Access and Energy Markets Tariff.

Filed Date: 06/07/2005.

Accession Number: 20050609-0103.

Comment Date: 5 p.m. Eastern Time on Tuesday, June 28, 2005.

Docket Numbers: ER05-1086-000.

Applicants: ISO New England Inc.

Description: ISO New England, Inc. submits the Coordination Agreement with New Brunswick System Operator, Inc. under ER05-1086.

Filed Date: 06/07/2005.

Accession Number: 20050609-0101.

Comment Date: 5 p.m. Eastern Time on Tuesday, June 28, 2005.

Docket Numbers: ER05-1087-000.

Applicants: Southwest Power Pool.

Description: Southwest Pool Inc submits revisions to its regional Open Access Transmission Tariff to incorporate Aquila Networks—L&P, Aquila Networks—MPS and Aquila Networks—WPK as Transmission Owners in the Southwest Power Pool Tariff.

Filed Date: 06/07/2005.

Accession Number: 20050609-0100.

Comment Date: 5 p.m. Eastern Time on Tuesday, June 28, 2005.

Docket Numbers: ER05-1088-000.

Applicants: MidAmerican Energy Company.

Description: MidAmerican Energy Company submits an Interconnection Agreement with Omaha Public Power District dated 6/6/05 under ER05-1088.

Filed Date: 06/07/2005.

Accession Number: 20050609-0099.

Comment Date: 5 p.m. Eastern Time on Tuesday, June 28, 2005.

Docket Numbers: ER05-1089-000.

Applicants: Wisconsin Public Service Corporation.

Description: Wisconsin Public Service Corporation requests that FERC institute a cooperative joint proceeding with Public Service Commission of Wisconsin to approve the provisions of the Wind-Up Plan concerning the impact of its sale of the Kewaunee Nuclear Power Plant on its rates for service to Public Service Commission of Wisconsin and FERC customers and for approval of the Kewaunee Wind-Up Plan.

Filed Date: 06/07/2005.

Accession Number: 20050609-0327.

Comment Date: 5 p.m. Eastern Time on Tuesday, June 28, 2005.

Docket Numbers: ER05-882-001.

Applicants: Carolina Power & Light Company and Florida Power Corporation.

Description: Carolina Power & Light Company d/b/a Progress Energy Carolinas, Inc and Florida Power Corporation d/b/a Progress Energy Florida, Inc. submits corrections to their April 28, 2005 filing in ER05-882-000.

Filed Date: 06/07/2005.

Accession Number: 20050609-0098.

Comment Date: 5 p.m. Eastern Time on Tuesday, June 28, 2005.

Docket Numbers: ER94-1188-036; ER98-4540-005; ER99-1623-005; ER98-1278-011; ER98-1279-007; EL05-99-000.

Applicants: LG&E Energy Marketing Inc.; Louisville Gas & Electric Company; Kentucky Utilities Company; WKE Station Two Inc.; Western Kentucky Energy Corp.

Description: LG&E Energy Market Inc.; Louisville Gas & Electric Company; Kentucky Utilities Company; and Western Kentucky Energy Corp. provide their first filing in compliance with FERC's 5/5/05 Order, 111 FERC ¶ 61,153 (2005).

Filed Date: 06/06/2005.

Accession Number: 20050609-0115.

Comment Date: 5 p.m. Eastern Time on Monday, June 27, 2005.

Docket Numbers: ER96-2734-005.

Applicants: Southern Indiana Gas & Electric Company.

Description: Southern Indiana Gas & Electric Co. dba Vectren Energy Delivery of Indiana submits Original Sheet 4A to its FERC Electric Tariff, First Revised Volume 4 in compliance with the Commission's 5/5/2005 order.

Filed Date: 06/06/2005.

Accession Number: 20050609-0096.

Comment Date: 5 p.m. Eastern Time on Monday, June 27, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov. or call (866) 208-3676 (toll free). For TTY, call (202) 502-8659.

Linda Mitry,
Deputy Secretary,

[FR Doc. E5-3182 Filed 6-17-05; 8:45 am]

BILLING CODE 6717-01-P